DEPARTMENT OF TRANSPORTATION

Federal Aviation Administration

Notice of Intent To Rule on Request To Release Airport Property at the Hondo Municipal Airport, Hondo, TX

AGENCY: Federal Aviation Administration (FAA), DOT.

ACTION: Notice of request to release airport property.

SUMMARY: The FAA proposes to rule and invite public comment on the release of land at the Hondo Municipal Airport under the provisions of Section 125 of the Wendell H. Ford Aviation Investment Reform Act for the 21st Century (AIR 21).

DATES: Comment must be received on or before November 13, 2007.

ADDRESSES: Comments on this application may be mailed or delivered to the FAA at the following address: Mr. Mike Nicely, Manager, Federal Aviation Administration, Southwest Region, Airports Division, Texas Airports Development Office, ASW-650, Fort Worth, Texas 76193-0650.

In addition, one copy of any comments submitted to the FAA must be mailed or delivered to the following address: Mr. Robert Herrera, City Manager, 1600 Avenue M, Hondo, Texas 78861.

FOR FURTHER INFORMATION CONTACT: Mr. Rodney Clark, Program Manager, Federal Aviation Administration, Texas Airports Development Office, ASW-650, 2601 Meacham Boulevard, Fort Worth, Texas 76193-0650, Telephone: (817) 222-5659, E-mail: Rodney.Clark@faa.gov Fax: (817) 222-5989.

The request to release property may be reviewed in person at this same location.

SUPPLEMENTARY INFORMATION: The FAA invites public comment on the request to release property at the Hondo Municipal Airport under the provisions of the AIR 21.

The following is a brief overview of the request:

The city of Hondo requests the release of 25.783 acres of non-aeronautical airport property. The land was acquired by Deed without Warranty from the United States on July 16, 1948. The property to be released will be sold to allow for future development of the airport.

Any person may inspect the request in person at the FAA office listed above under FOR FURTHER INFORMATION CONTACT.

In addition, any person may, upon request, inspect the application, notice and other documents relevant to the application in person at the Hondo Municipal Airport, telephone number (830) 426-3378.

Issued in Fort Worth, Texas, on October 1, 2007.
Mike Nicely,
Acting Manager, Airports Division.

[FR Doc. 07-5003 Filed 10-10-07; 8:45 am]

BILLING CODE 4910-13-M